DEPARTMENT OF THE INTERIOR

Bureau of Land Management

[NV-040-07-5101-ER-F164; N-82076]

Notice of Intent To Prepare an Environmental Impact Statement for a Proposed Coal-Fired Electric Power Plant, 250 Miles of High Voltage Transmission Line With Fiber Optic Cable, Approximately 100 Miles of New Rail Line, Substations, Water Well-Fields and Pipeline Delivery Systems, and Associated Facilities in Portions of White Pine, Lincoln, Nye, Elko, and Clark Counties, NV, and Notice of Public Meetings

AGENCY: Bureau of Land Management, Interior.

ACTION: Notice of Intent (NOI) to Prepare an Environmental Impact Statement (EIS) and Initiate Public Scoping.

SUMMARY: Pursuant to Section 102 (2)(C) of the National Environmental Policy Act of 1969, the Bureau of Land Management (BLM), Ely, Elko, and Las Vegas Field Offices, will be directing the preparation of an EIS and conducting public scoping meetings for a proposed Ely Energy Center (EEC), rail line, 345 kV and 500 kV transmission lines with fiber optic capacity, substations, water delivery, and associated facilities.

Comment Dates: The comment period for scoping the EIS will commence with the publication of this notice. Those having concerns, issues, or alternatives they would like to see addressed in the EIS should respond with written comments by February 26, 2007. This scoping notice will be distributed by mail on or about the date of this notice. All comments received at the public scoping meetings or through written comments submitted will aid the BLM in identifying alternatives and mitigating measures and will help assure all issues are analyzed in the EIS.

ADDRESSES: Comments and issues related to the proposed EIS should be mailed to Ann Perkins, Bureau of Land Management, Ely Field Office, HC 33 Box 33500, Ely, Nevada 89301. Information and a copy of this NOI can be obtained by writing to the Bureau of Land Management, Ely Field Office, HC 33 Box 33500, Ely, Nevada 89301, visiting the Ely Field Office at 702 North Industrial Way, Ely, NV 89301, or by contacting or visiting either the Las Vegas Office at 4701 North Torrey Pines Drive, Las Vegas, NV 89130 or the Elko office at 3900 Idaho Street, Elko, NV 89801.

FOR FURTHER INFORMATION CONTACT: Ann Perkins at (775) 289-1850, e-mail Ann_Perkins@nv.blm.gov.

SUPPLEMENTARY INFORMATION: The EIS will assess the potential impacts of initially granting rights-of-way (ROW) and subsequent conveyance for a proposed power-generating facility and granting a ROW for proposed rail lines, transmission lines with fiber optic cable, substations, water well-fields and pipeline delivery systems, and associated facilities in White Pine County, Lincoln, Nye, Elko, and Clark counties, Nevada.

The proposed project includes the EEC and additions to the Nevada Power and Sierra Pacific transmission systems. The EEC would consist of two 750 megawatt (MW) coal-fired generating units in Phase I; a future Phase II includes two 500 MW integrated gasification combined-cycle generating units (or another efficient technology option) and other related facilities, e.g., a rail loop, coal unloading, handling, and storage facilities, a solid waste disposal facility, water storage and treatment facilities, evaporation pond, cooling towers, electric switchyards and substations, and support buildings. Water requirements include well fields and pumping facilities, water pipeline(s) and related facilities in Steptoe, Butte, and Jakes Valleys, rail spurs, and access roads. The well fields would require power and relay communication connections.

The EIS will address whether to use the Nevada Northern Rail for coal delivery or, as an alternative, whether to build a new rail approximately 100 miles from Steptoe Valley to Shafter, Nevada.

The electric transmission facilities would include up to two high voltage (500 kV) transmission lines interconnecting the electric transmission systems of Sierra Pacific and Nevada Power (between the proposed EEC and the existing Harry Allen substation in Clark County [Apex Valley] northeast of Las Vegas, Nevada). Each transmission alternative accommodates an interconnection of the 500-kV system to the existing 345-kV transmission system along the existing Falcon-Gonder corridor. The proposed project will include a new substation located adjacent to the plant, a new substation constructed at Robinson Summit, and expansion of the existing Harry Allen substation in Clark County.

The proposed EEC would be located in the eastern part of Nevada in White Pine County. Two potential power plant sites, South Steptoe Valley (SSV) and the North Steptoe Valley (NSV), have been identified for this project. Both proposed power plant sites would be accessible via an access road from Highway 93. The water wells, water pipeline, and related facilities would be located in mostly flat terrain within Steptoe, Butte, and Jakes Valleys. The rail spurs would be located on mostly flat terrain between the power plant site and either the existing Nevada Northern Railway rail line in Steptoe Valley or the alternate 100 mile rail line interconnecting the Union Pacific rail at Shafter. The electric transmission line ROWs would extend from the proposed new generation site in Steptoe Valley to intersect the existing Falcon-Gonder line. The 500 kV power lines may interconnect at a proposed new substation east of Robinson summit (described further below). The proposed line will intersect the previously federally-designated Southwest Intertie Project utility corridor, and will extend to the Harry Allen Substation in northeast Las Vegas, Clark County, Nevada.

The existing Harry Allen Substation would be expanded by approximately 40 acres. The existing ROW grant would be amended to accommodate the new substation facilities associated with the interconnection of the proposed two 500 kV lines. A proposed new substation approximately 55 acres in size may be constructed near Highway 50 west of Robinson Summit. Approximately 1/2 mile of new electric transmission line ROW would be needed to loop the existing Falcon-Gonder 345 kV electric transmission line into the Robinson Summit substation. A third new substation would require approximately 80 acres for a new ROW to accommodate the equipment to interconnect the 500 kV and 345 kV systems. This new substation would be located adjacent to the plant site.

The proposed power plant development area and ancillary facilities would encompass approximately 3,000 acres, of which approximately 1,000 acres would be required for a landfill for the combustion by-products and material collected by the pollution control equipment. Conveyance of approximately 2,500 acres via direct sale to Sierra Pacific/Nevada Power is proposed. The remaining 500 acres of the total 3,000-acre plant site will consist of a substation and other ancillary facilities; the 500 acres may be authorized by a Federal Lands Policy Management Act ROW. A map of the proposed project is available for viewing at the BLM, Ely Field Office, 702 North Industrial Way, Ely, NV 89301, or the Elko office at 3900 Idaho Street, Elko, NV 89801, or the Las Vegas Office at 4701 North Torrey Pines Drive, Las Vegas, NV 89130. Lands involved in this project may include but are not limited to the following legal descriptions:

Mount Diablo Meridian, White Pine, Lincoln, Nye, Elko, and Clark Counties, Nevada
Power Plant Site (SSV) | T. 19 N., R. 64 E., Sections 7, 8, 9, 10, 15, 16, 17, 18, 19, 20, 21, 22, 27, 28, 29 & 30.
& Access Road (SSV) | T. 19 N., R. 64 E., Section 21.
Rail Spur (SSV) | T. 35 N., R. 67 E., Sections 21, 22, 27, 28, 32, 33 & 34. T. 34 N., R. 67 E., Sections 4, 5, 8, 9, 16, 17, 20, 21, 28, 29, 32 & 33. T. 33 N., R. 67 E., Sections 4, 5, 6, 7, 8, 17, 18, 19, 20, 29, 30 & 31.
| T. 33 N., R. 66 E., Sections 25 & 36.
| T. 32 N., R. 67 E., Sections 6, 7, 18, 19 & 30.
| T. 32 N., R. 66 E., Sections 1, 12, 13, 24, 25, 26, 35 & 36.
| T. 31 N., R. 66 E., Sections 1, 2, 11, 12, 13, 14, 23, 24, 25, 26, 27, 33, 34, & 35.
| T. 30 N., R. 66 E., Sections 2, 3, 4, 8, 9, 10, 15, 16, 17, 19, 20, 21, 29, 30, 31 & 32.
| T. 30 N., R. 65 E., Sections 25 & 36.
| T. 29 N., R. 66 E., Section 6.
| T. 29 N., R. 65 E., Sections 1, 2, 10, 11, 12, 13, 14, 15, 21, 22, 23, 27, 28, 32, 33 & 34.
| T. 28 N., R. 65 E., Sections 4, 5, 7, 8, 9, 17, 18, 19, 20, 29, 30, 31 & 32.
| T. 28 N., R. 64 E., Sections 25 & 36.
| T. 27 N., R. 65 E., Sections 5, 6, 7, 8, 17, 18, 19, 20, 28, 29, 30, 31, & 32.
| T. 27 N., R. 64 E., Sections 1, 12 & 13.
| T. 26 N., R. 65 E., Sections 5, 6, 7, 8, 17, 18, 19, 20, 29, 30, 31 & 32.
| T. 25 N., R. 65 E., Sections 6, 7, 18, 19, 30 & 31.
| T. 25 N., R. 64 E., Sections 1, 12, 13, 24, 25, 26, 35 & 36.
| T. 24 N., R. 64 E., Sections 1, 2, 10, 11, 12, 14, 15, 21, 22, 23, 27, 28, 33 & 34.
| T. 23 N., R. 64 E., Sections 3, 4, 5, 8, 9, 16, 17, 20, 21, 28, 29, 32 & 33.
| T. 22 N., R. 64 E., Sections 4, 5, 8, 9, 16, 17, 20, 21, 28, 29, 32 & 33.
| T. 21 N., R. 64 E., Sections 4, 5, 8, 9, 16, 17, 20, 21, 28, 29, 31, 32 & 33.
| T. 20 N., R. 64 E., Sections 3, 4, 9, 10, 15, 16, 21, 22, 27, 28, 33 & 34.
| T. 19 N., R. 64 E., Sections 3, 4, 5, 7, 8, 9, 17, 18, 19 & 34.
Rail Spur (SSV)—Alternative | T. 19 N., R. 64 E., Sections 17 & 18. T. 19 N., R. 63 E., Section 13.
Power Plant Site (NSV) | T. 24 N., R. 64 E., Sections 1, 2, 3, 9, 10, 11, 12, 14, 15, 16, 21, 22 & 23.
& Access Road (NSV) | T. 24 N., R. 64 E., Sections 14 & 23.
Rail Spur (NSV) | T. 35 N., R. 67 E., Sections 21, 22, 27, 28, 32, 33 & 34. T. 34 N., R. 67 E., Sections 4, 5, 8, 9, 16, 17, 20, 21, 28, 29, 32 & 33.
| T. 33 N., R. 67 E., Sections 4, 5, 6, 7, 8, 17, 18, 19, 20, 29, 30 & 31.
| T. 33 N., R. 66 E., Sections 25 & 36.
| T. 32 N., R. 67 E., Sections 6, 7, 18, 19 & 30.
| T. 32 N., R. 66 E., Sections 1, 12, 13, 24, 25, 26, 35 & 36.
| T. 31 N., R. 66 E., Sections 1, 2, 11, 12, 13, 14, 23, 24, 25, 26, 27, 33, 34, & 35.
| T. 30 N., R. 66 E., Sections 2, 3, 4, 8, 9, 10, 15, 16, 17, 19, 20, 21, 29, 30, 31 & 32.
| T. 30 N., R. 65 E., Sections 25 & 36.
| T. 29 N., R. 66 E., Section 6.
| T. 29 N., R. 65 E., Sections 1, 2, 10, 11, 12, 13, 14, 15, 21, 22, 23, 27, 28, 32, 33 & 34.
| T. 28 N., R. 65 E., Sections 4, 5, 7, 8, 9, 17, 18, 19, 20, 29, 30, 31 & 32.
| T. 28 N., R. 64 E., Sections 25 & 36.
| T. 27 N., R. 65 E., Sections 5, 6, 7, 8, 17, 18, 19, 20, 28, 29, 30, 31, & 32.
| T. 27 N., R. 64 E., Sections 1, 12 & 13.
| T. 26 N., R. 65 E., Sections 5, 6, 7, 8, 17, 18, 19, 20, 29, 30, 31 & 32.
| T. 25 N., R. 65 E., Sections 6, 7, 18, 19, 30 & 31.
| T. 25 N., R. 64 E., Sections 1, 12, 13, 24, 25, 26, 35 & 36.
| T. 24 N., R. 64 E., Sections 1, 2, 3, 9, 10, 11, 15 & 16.
Rail Spur (NSV)—Alternative | T. 24 N., R. 64 E., Sections 7, 16, 17 & 18. T. 24 N., R. 63 E., Sections 12 & 13.
Transmission Line (Segment 1) | T. 24 N., R. 64 E., Sections 19, 20, 21 & 22. T. 24 N., R. 63 E., Sections 23, 24, 25, 26 & 35. T. 23 N., R. 63 E., Sections 2, 3, 10, 11, 14, 15, 22, 26, 27, 34 & 35.
| T. 22 N., R. 63 E., Sections 2, 3, 10, 11, 14, 15, 23, 26 & 35.
| T. 21 N., R. 63 E., Sections 2, 11, 14, 23, 26, 27, 33, 34 & 35.
| T. 20 N., R. 63 E., Sections 1, 2, 3, 7, 8, 9, 10, 11, 16, 17 & 18.
| T. 20 N., R. 62 E., Sections 13, 14, 15, 21, 22, 23, 24, 27, 28, 29, 31, 32 & 33.
| T. 19 N., R. 62 E., Sections 5, 6 & 7.
| T. 19 N., R. 61 E., Sections 1, 11, 12, 13, 14, 15, 21, 22, 23, 27, 28, 29, 30, 31, 32, & 33.
| T. 18 N., R. 61 E., Sections 5, 6, 7, 8, 17, 18, 19 & 20.
Transmission Line (Segment 2) | T. 18 N., R. 61 E., Sections 19 & 20.
Transmission Line (Segment 3) | T. 19 N., R. 64 E., Sections 19, 20, 29 & 30. T. 19 N., R. 63 E., Sections 25 & 36. T. 18 N., R. 63 E., Sections 1, 2, 11, 12, 13, 14, 23, 24, 25, 26, 35 & 36.
| T. 17 N., R. 63 E., Sections 2, 11 & 14.
Transmission Line (Segment 4) | T. 18 N., R. 62 E., Sections 28, 29, 30, 32, 33, 34 & 35. T. 18 N., R. 61 E., Sections 20, 21, 22, 25, 26, 27, 28 & 29. T. 17 N., R. 63 E., Sections 6, 7, 8, 9, 10, 11, 14, 15, 16 & 17.
| T. 17 N., R. 62 E., Sections 1, 2, 3 & 12.
Transmission Line (Segment 5) | T. 17 N., R. 64 E., Sections 17 & 18. T. 17 N., R. 63 E., Sections 11, 13 & 14.
Transmission Line (Segment 6) | T. 18 N., R. 61 E., Sections 19, 20, 29, 30, 31 & 32. T. 17 N., R. 61 E., Sections 5, 6, 7, 8, 17, 18, 19, 20, 29, 30, 31 & 32. T. 16 N., R. 61 E., Sections 5, 6, 7, 8, 17, 18, 19, 20, 29, 30, 31 & 32.
| T. 15 N., R. 61 E., Sections 4, 5, 8, 9, 16, 21, 22, 27, 28, 33 & 34.
| T. 14 N., R. 61 E., Sections 3, 4, 9 16, 17, 20, 21, 29, 31 & 32.
| T. 13 N., R. 61 E., Sections 6 & 7.
| T. 13 N., R. 60 E., Sections 1, 11, 12, 13, 14, 22, 23, 26, 27 & 34.
| T. 12 N., R. 60 E., Sections 3, 4, 9, 10, 15, 16, 21, 22, 27, 28, 33, 34 & 35.
| T. 11 N., R. 60 E., Sections 2, 3, 11, 12, 13, 14, 24, 25, 26, 35 & 36.
| T. 10 N., R. 60 E., Sections 1, 2, 11, 12, 14, 22, 23, 26, 27, 34 & 35.
| T. 9 N., R. 60 E., Sections 3, 9, 10, 15, 16, 21, 22, 28 & 33.
| T. 8 N., R. 60 E., Sections 3, 4, 9, 10, 15, 16, 21, 22, 27, 28, 33 & 34.
| T. 7 N., R. 60 E., Sections 3, 4, 9, 16, 21, 28 & 33.
| T. 6 N., R. 60 E., Sections 4, 9, 16, 21, 28 & 33.
| T. 5 N., R. 63 E., Sections 31 & 32.
| T. 5 N., R. 62 E., Sections 27, 28, 29, 30, 31, 32, 33, 34, 35 & 36.
| T. 5 N., R. 61 E., Sections 17, 18, 19, 20, 21, 22, 23, 24, 25, 26 & 27.
| T. 5 N., R. 60 E., Sections 3, 4, 10, 11, 13, 14, 15 & 24.
| T. 4 N., R. 63 E., Sections 1, 2, 3, 4, 5, 6, 10, 11 & 12.
| T. 4 N., R. 62 E., Section 1.
Transmission Line (Segment 7) | T. 17 N., R. 64 E., Sections 17, 18, 19, 20, 29, 30, 31 & 32. T. 16 N., R. 64 E., Sections 5, 8, 17, 20, 29, 32 & 33. T. 15 N., R. 64 E., Sections 4, 9, 10, 14, 15, 23, 24, 25 & 36.
| T. 14 N., R. 65 E., Sections 18, 19, 30, 31 & 32.
| T. 14 N., R. 64 E., Sections 1, 12, 13, 24 & 25.
| T. 13 N., R. 66 E., Sections 18, 19, 20, 28, 29, 32, 33 & 34.
| T. 13 N., R. 65 E., Sections 4, 5, 6, 9, 10, 11, 13, 14, 15, 16 & 24.
| T. 12 N., R. 66 E., Sections 3, 4, 10, 15, 16, 21, 22, 27, 28, 33 & 34.
| T. 11 N., R. 66 E., Sections 3, 4, 9, 16, 17, 20, 21, 29, 31 & 32.
| T. 10 N., R. 66 E., Sections 5, 6, 7, 8, 17, 18, 20, 29, 30, 31 & 32.
| T. 9 N., R. 66 E., Sections 5, 6, 7, 8, 17, 18, 19, 20, 30 & 31.
| T. 8 N., R. 66 E., Sections 6, 7, 18 & 19.
| T. 8 N., R. 65 E., Sections 13, 23, 24, 25, 26, 27, 33, 34 & 35.
| T. 7 N., R. 65 E., Sections 3, 4, 8, 9, 17, 18, 19, 20, 30 & 31.
| T. 7 N., R. 64 E., Sections 25 & 36.
| T. 6 N., R. 65 E., Section 6.
| T. 6 N., R. 64 E., Sections 1, 11, 12, 13, 14, 23, 26, 34 & 35.
| T. 5 N., R. 64 E., Sections 2, 3, 9, 10, 15, 16, 20, 21, 29, 30, 31 & 32.
| T. 4 N., R. 64 E., Sections 6 & 7.
| T. 4 N., R. 63 E., Sections 1 & 12.
Transmission Line (Segment 8) | T. 4 N, R. 64 E., Sections 7, 17, 18, 19, 20, 28, 29, 32 & 33. T. 4 N., R. 63 E., Section 12. T. 3 N., R. 65 E., Section 31.
| T. 3 N., R. 64 E., Sections 3, 4, 9, 10, 11, 14, 15, 23, 24, 25, 26 & 36.
| T. 2 N., R. 65 E., Sections 6, 7, 8, 17, 18, 19, 20, 29, 30, 31 & 32.
| T. 2 N., R. 64 E., Section 1.
| T. 1 N., R. 65 E., Sections 5, 6, 7, 8, 17, 18, 19, 20, 29, 30 & 32.
| T. 6 S., R. 64 E., Sections 6 & 7.
| T. 6 S., R. 63 E., Sections 1, 12, 13, 14, 23, 24, 26, 34 & 35.
| T. 5 S., R. 64 E., Sections 4, 8, 9, 16, 17, 19, 20, 29, 30 & 31.
| T. 5 S., R. 63 E., Section 36.
| T. 4 S., R. 64 E., Sections 2, 3, 10, 11, 14, 15, 21, 22, 27, 28, 32 & 33.
| T. 3 S., R. 65 E., Sections 5, 6, 7, 18 & 19.
| T. 3 S., R. 64 E., Sections 12, 13, 24, 25, 26, 35 & 36.
| T. 2 S., R. 65 E., Sections 4, 5, 8, 9, 16, 17, 20, 21, 28, 29, 31 & 32.
| T. 1 S., R. 65 E., Sections 4, 5, 8, 9, 16, 17, 20, 21, 28, 29, 32 & 33.
Transmission Line (Segment 9) | T. 11 S., R. 62 E., Sections 1, 12, 13, 14, 23, 24, 25 & 26. T. 10 S., R. 62 E., Sections 1, 2, 11, 12, 14, 15, 22, 23, 25, 26, 35 & 36. T. 9 S., R. 62 E., Sections 2, 3, 10, 11, 14, 15, 22, 23, 26 & 35.
| T. 8 S., R. 63 E., Sections 5, 6, 7, 8, 18 & 19.
| T. 8 S., R. 62 E., Sections 13, 23, 24, 25, 26, 27, 34 & 35.
| T. 7 S., R. 63 E., Sections 2, 3, 9, 10, 15, 16, 21, 28, 29 32 & 33.
| T. 6 S., R. 63 E., Sections 34 & 35.
Transmission Line (Segment 10) | T. 11 S., R. 64 E., Sections 5, 6 & 7. T. 11 S., R. 63 E., Sections 11, 12, 14, 15, 16, 17, 19, 20 & 21. T. 11 S., R. 62 E., Section 24.
| T. 10 S., R. 65 E., Section 6.
| T. 10 S., R. 64 E., Sections 1, 11, 12, 14, 15, 21, 22, 28, 32 & 33.
| T. 9 S., R. 65 E., Sections 3, 10, 15, 16, 21, 22, 28, 29, 31 & 32.
| T. 8 S., R. 65 E., Sections 4, 5, 9, 16, 21, 28 & 33.
| T. 7 S., R. 65 E., Sections 31 & 32.
| T. 7 S., R. 64 E., Sections 7, 17, 18, 20, 21, 22, 25, 26, 27 & 36.
| T. 7 S., R. 63 E., Sections 1, 2 & 12.
| T. 6 S., R. 63 E., Section 35.
Transmission Line (Segment 11) | T. 17 S., R. 64 E., Sections 7, 18 & 19. T. 17 S., R. 63 E., Sections 12, 13, 24, 25, 26, 35 & 36. T. 16 S., R. 63 E., Sections 3, 10, 14, 15, 22, 23, 25, 26, 35 & 36.
| T. 15 S., R. 63 E., Sections 3, 10, 15, 22, 27 & 34.
| T. 14 S., R. 63 E., Sections 3, 4, 9, 10, 15, 22, 27 & 34.
| T. 13 S., R. 63 E., Sections 5, 8, 16, 17, 20, 21, 27, 28, 29, 33 & 34.
| T. 13.2 S., R. 63 E., Sections 33 & 34.
| T. 12 S., R. 63 E., Sections 6, 7, 17, 18, 19, 20, 29, 30, 31 & 32.
| T. 12 S., R. 62 E., Section 1.
| T. 11 S., R. 63 E., Section 31.
| T. 11 S., R. 62 E., Sections 24, 25, 26 & 36.
Electric Substations | T. 24 N., R. 64 E., Section 22. T. 19 N., R. 64 E., Sections 20, 21, 28 & 29. T. 18 N., R. 61 E., Section 18, 19, & 20.
| T.17 S., R. 63 E., Sections 25,35 & 36 (Harry Allen).
& Access Roads | T. 24 N., R. 64 E., Sections 22 & 23. T. 19 N., R. 64 E., Section 27, 28 & 29. T. 18 N., R. 61 E., Sections 18 & 19.
Well Field and/or Water Supply Pipeline (SSV) | T. 21 N., R. 61 E., Sections 26, 27, 28, 29, 31, 32, 33 & 34. T. 20 N., R. 62 E., Sections 30, 31 & 32. T. 20 N., R. 61 E., Sections 3, 4, 9, 10, 11, 14, 15, 23, 24 & 25.
| T. 19 N., R. 64 E., Sections 19 & 20.
| T. 19 N., R. 63 E., Sections 24, 25 & 36.
| T. 19 N., R. 62 E., Sections 4, 5, 6, 7, 8, 9, 15, 16, 21, 22, 27, 28 & 34.
| T. 19 N., R. 61 E., Sections 1, 11, 12, 13, 14, 15, 21, 22, 23, 27, 28, 29, 32 & 33.
| T. 18 N., R. 63 E., Sections 1, 11, 12, 13, 14, 24, 25, 30, 31, 35 & 36.
| T. 18 N., R. 62 E., Sections 2, 3, 10, 11, 13, 14, 23, 24, 25 & 36.
| T. 18 N., R. 61 E., Sections 5, 6, 7, 8, 17, 18, 19, 20, 29, 30, 31 & 20.
| T. 18 N., R. 60 E., Sections 8, 9, 14, 15, 16, 17, 18, 19, 20, 21, 22, 23 & 24.
| T. 17 N., R. 63 E., Sections 2, 3, 5, 6, 8, 9 & 10.
| T. 17 N., R. 61 E., Sections 6, 7, 18, 19, 30 & 31.
| T. 16 N., R. 61 E., Sections 6, 7, 18, 19, 30, 31 & 32.
| T. 15 N., R. 61 E., Sections 5, 6, 7 & 8.
| T. 15 N., R. 60 E., Sections 12, 13 & 14.
Well Field and/or Water Supply Pipeline (SSV)—Alternative 1 | T. 21 N., R. 61 E., Sections 31 & 32. T. 20 N., R. 63 E., Sections 17, 18, 20, 21, 22, 26, 27, 28, 35 & 36. T. 20 N., R. 62 E., Sections 13, 14, 19, 20, 21, 22, 23, 24, 28, 29 & 30.
| T. 20 N., R. 61 E., Sections 3, 4, 10, 11, 13, 14, 15 & 24.
| T. 19 N., R. 64 E., Sections 7, 8, 17 & 18.
| T. 19 N., R. 63 E., Sections 1, 12 & 13.
Well Field and/or Water Supply Pipeline (SSV)—Alternative 2 | T. 19 N., R. 64 E., Sections 21, 22, 23, 24, 25 & 26.
Well Field and/or Water Supply Pipeline (NSV) | T. 24 N., R. 64 E., Sections 19, 20 & 21. T. 24 N., R. 63 E., Sections 23, 24, 25, 26 & 35. T. 23 N., R. 63 E., Sections 2, 10, 11, 14, 15, 18, 19, 20, 21 & 22.
| T. 23 N., R. 62 E., Sections 13, 14, 15, 22, 23, 27 & 34.
| T. 22 N., R. 62 E., Sections 3, 10, 15, 16, 20, 21, 29, 31 & 32.
| T. 21 N., R. 62 E., Section 6.
| T. 21 N., R. 61 E., Sections 1, 11, 12, 14, 15, 21, 22, 26, 27, 28, 29, 31, 32, 33 & 34.
| T. 20 N., R. 62 E., Sections 30, 31 & 32.
| T. 20 N., R. 61 E., Sections 3, 4, 9, 10, 11, 14, 15, 23, 24 & 25.
| T. 19 N., R. 62 E., Sections 5, 6 & 7.
| T. 19 N., R. 61 E., Sections 1, 11, 12, 13, 14, 15, 21, 22, 23, 27, 28, 29, 32 & 33.
| T. 18 N., R. 61 E., Sections 5, 6, 7, 8, 17, 18, 19, 20, 29, 30, 31 & 32.
| T. 18 N., R. 60 E., Sections 8, 9, 14, 15, 16, 17, 18, 19, 20, 21, 22, 23 & 24.
| T. 17 N., R. 61 E., Sections 6, 7, 18, 30 & 31.
| T. 16 N., R. 61 E., Sections 6, 7, 18, 19, 30, 31 & 32.
| T. 15 N., R. 61 E., Sections 5, 6, 7 & 8.
| T. 15 N., R. 60 E., Sections 12, 13 & 14.
Well Field and/or Water Supply Pipeline (NSV)—Alternative 1 | T. 24 N., R. 64 E., Sections 22, 23, 27, 33 & 34. T. 23 N., R. 64 E., Sections 4, 9, 16, 21, 28 & 33. T. 22 N., R. 64 E., Sections 4, 5, 8, 9, 16, 17, 20, 21, 28, 29 & 33.
| T. 21 N., R. 64 E., Sections 4, 5, 8, 9, 17, 20, 29 & 32.
| T. 20 N., R. 64 E., Sections 3, 10, 15, 22, 27 & 34.
| T. 20 N., R. 64 E., Sections 3, 10, 15, 22, 23, 24, 25 & 26.

Public Scoping Meetings: Public scoping meetings are planned at four locations. The meetings will provide the public an opportunity to present comments or issues that will be addressed in the EIS. The meetings will be held in an “open house format” beginning at 5 p.m. and ending at 8 p.m. Dates and locations for the public scoping meetings and will be provided through press releases.

Public Input Requested: Comments concerning the Proposed Action and EIS should address issues to be considered, feasible alternatives to examine, possible mitigation, and information relevant to or having a bearing on the Proposed Action.

Dated: January 18, 2007.
John F. Ruhs,
Field Manager.

[FR Doc. E7-1175 Filed 1-25-07; 8:45 am]

BILLING CODE 4310-HC-P